DEPARTMENT OF DEFENSE

Department of the Army

Army Science Board; Notice of Closed Meeting

In accordance with Section 10(a)(2) of the Federal Advisory Committee Act (P.L. 92-463), announcement is made of the following Committee Meeting:

Name of Committee: Army Science Board (ASB).

Date of Meeting: 18 October 2000.

Time of Meeting: 0730-1700.

Place: Presidential Towers.

Agenda: The Army Science Board's (ASB) Study Group on “Countermine” will meet to have subgroup briefings and overall group discussion on October 18.. This meeting will be closed to the public in accordance with Section 552b(c) of Title 5, U.S.C., specifically subparagraph (1) thereof, and Title 5, U.S.C., Appendix 2, subsection 10(d). (Please see attached Agendas.) The classified preclude opening any portion of this meeting. For further information, please contact Ms. Debbie Butler at (703) 601-1552.

Wayne Joyner,
Program Support Specialist, Army Science Board.

Army Science Board Countermine Study—Presidential Towers, Crystal City, VA, 18 October 2000.

Agenda

0800-0900—Introduction—CLASSIFIED—Frank Kendall

0900-0945—Wide Area Surveillance—CLASSIFIED—Dr. Irene Peden

0945-1030—Maneuver Unit Support and Route Clearing—CLASSIFIED—Joanna Lau

1030-1115—Physical Security and Humanitarian Demining—CLASSIFIED—Buddy Beck

1115-1230—LUNCH

1230-1315—Breaching—CLASSIFIED—Dr. Luyten

1315-1415—Basic Research and Phenomenology—CLASSIFIED—Dr. Canavan

1415-1515—Open Discussion/Closing Remarks—CLASSIFIED—Frank Kendall

[FR Doc. 00-26416 Filed 10-13-00; 8:45 am]

BILLING CODE 3710-08-M